FEDERAL COMMUNICATIONS COMMISSION

Notice of Public Information Collection(s) Being Reviewed by the Federal Communications Commission

December 12, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 21, 2003. If you anticipate that you will be submitting comments, but find it difficult to do so within the period of time allowed by this notice, you should advise the contact listed below as soon as possible.

ADDRESSES: Direct all comments to Judith Boley Herman, Federal Communications Commission, Room 1-C804, 445 12th Street, SW., Washington, DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0584.

Title: Administration of U.S. Certified Accounting Authorities in Maritime Mobile and Maritime Mobile-Satellite Radio Services.

Form Nos: FCC Forms 44 and 45.

Type of Review: Revision of a currently approved collection.

Respondents: Individuals or households, business or other for-profit.

Number of Respondents: 25 respondents; 50 responses.

Estimated Time Per Response: 1-3 hours.

Frequency of Response: On occasion, semi-annual and annual reporting requirements, third party disclosure requirement, recordkeeping requirement.

Total Annual Burden: 150 hours.

Total Annual Cost: N/A.

Needs and Uses: The FCC has standards for accounting authorities in the maritime mobile and maritime-satellite radio services. Information will be used to determine eligibility of applicants for certification as an accounting authority, to create internal studies and ensure compliance, and to identify accounting authorities to the International Telecommunications Union (ITU). Respondents are individuals or entities seeking certification or those already certified to be accounting authorities.

OMB Control No.: 3060-XXXX.

Title: Data Network Identification Code (DNIC).

Form No: N/A.

Type of Review: New collection.

Respondents: Business or other for-profit.

Number of Respondents: 5.

Estimated Time Per Response: .25 hours.

Frequency of Response: On occasion reporting requirement.

Total Annual Burden: 1 hour.

Total Annual Cost: N/A.

Needs and Uses: A Data Network Identification Code (DNIC) is a unique, four-digit designed to provide discreet identification of individual public data networks. The DNIC is intended to identify and permit automated switching of data traffic to particular networks. The Commission grants the DNIC's to operators of public data networks on an international protocol. The operators of public data networks file an application for a DNIC on the Internet-based, International Bureau Filing System (IBFS). The DNIC is obtained free of charge on a one-time only basis unless there is a change in ownership or the owner chooses to relinquish the code to the Commission.

OMB Control No.: 3060-XXXX.

Title: International Signaling Point Code (ISPC).

Form No: N/A.

Type of Review: New collection.

Respondents: Business or other for-profit.

Number of Respondents: 40.

Estimated Time Per Response: .166 hours (10 minutes).

Frequency of Response: On occasion reporting requirement, third party disclosure requirement.

Total Annual Burden: 7 hours.

Total Annual Cost: N/A.

Needs and Uses: An International Signaling Point Code (ISPC) is a signaling point code with a unique format used at the international level for signaling message routing and identification of signaling points involved. The ISPC consists of a unique seven-digit code, synonymous with a telephone area code that identifies each international carrier. The Commission assigns ISPC's to international carriers in response to their filing of an ISPC application on the electronic, Internet-based International Bureau Filing System (IBFS). The Commission issues the code to international carriers free of charge on a first-come, first-served basis and informs the International Telecommunications Union (ITU) of its actions.

Federal Communications Commission.
Marlene H. Dortch,
Secretary.

[FR Doc. 02-32006 Filed 12-19-02; 8:45 am]

BILLING CODE 6712-01-P